DEPARTMENT OF LABOR

Office of the Secretary

Submission for OMB Review; Comment Request

April 30, 2002.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King on (202) 693-4129 or E-Mail: King-Darrin@dol.gov.

Comment should be sent to Office of Information and Regulatory Affairs, Attn: OMB Desk Officer for ETA, Officer of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated; electronic, mechanical, or other technological collection techniques or other forms of information information technology, e.g., permitting electronic submission of responses.

Type of Review: Extension of currently approved collection.

Agency: Employment and Training Administration (ETA).

Title: WIA Management Information and Reporting System.

OMB Number: 1205-0420.

Affected Public: State, Local, or Tribal Government and Individuals or households.

Type of Response: Reporting and recordkeeping.

Number of Respondents: 53.

Annual Responses: 318.

Average Response Time: 2,410 hours (per State).

Estimated Burden Hours: 766,451.

Total Annualized Capital/Startup Costs: $919,213.

Total Annual Costs (operating/maintaining systems or purchasing $18,986,229.

Description: Selected standardized information pertaining to participations in Workforce Investment Act (WIA) Title IB program is collected and reported for the purposes of general programs is collected and reported for the purposes of general program oversight, evaluation and performance assessment. State governments are responsible for providing the required reports. On a voluntary basis, program participants may be asked to respond to a customer satisfaction survey in order to assess to effectiveness of State WIA Title IB programs. This collection of information is authorized under WIA section 188 and 185 (d) (1) (A-E).

Ira L. Mills,
Department Clearance Officer.

[FR Doc. 02-11154 Filed 5-3-02; 8:45 am]

BILLING CODE 4510-30-M